NATIONAL SCIENCE FOUNDATION

Notice of Permit Modification Received Under the Antarctic Conservation Act of 1978 (Pub. L. 95-541)

AGENCY: National Science Foundation.

ACTION: Notice of Permit Modification Request Received Under the Antarctic Conservation Act of 1978, Public Law 95-541.

SUMMARY: The National Science Foundation (NSF) is required to publish a notice of requests to modify permits issued to conduct activities regulated under the Antarctic Conservation Act of 1978. NSF has published regulations under the Antarctic Conservation Act at Title 45 Part 670 of the Code of Federal Regulations. This is the required notice of a requested permit modification.

DATES: Interested parties are invited to submit written data, comments, or views with respect to this permit application by July 23, 2012. Permit applications may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

Description of Permit Modification Requested: The Foundation issued a permit (2011-003) to Jo-Ann Mellish on June 6, 2011. The issued permit allows the applicant to capture and restrain up to 40 Weddell seals (weaned pups, juveniles and adults) to weigh, take digital images for 3D photogrammetric models and infrared analysis and ultrasound measurements of blubber depth, collect blood samples from the extradural vein, and blubber samples collected with a sterile biopsy punch. In addition, a telemetry instrument pack is glued to the fur in the mid-dorsal region. The pack allows for the recording of depth, swim speed, ambient temperature, and light levels, stomach temperature, heat flux and skin temperature. An additional stroke frequency sensor is glued to the base of the tail. These tests and instruments help quantify thermoregulatory expenses in a model pagophilic species, the Weddell seal, as a function of size and body condition on a small temporal scale for specific environments, activities and swim speeds.

The applicant requests a modification to her permit to allow:

(1) Increase the number of seals from 40-55 (pup through adult) over the life of the permit. The addition of the 15 additional seals takes into account the loss of tags and incomplete datasets from irretrievable equipment. The additional seals will allow a minimum of 10 complete datasets from each age class (pup, juvenile, and adult).

(2) Authorization to conduct a full necropsy with collection of blood and tissue samples for import into the U.S. for post-mortem analysis.

Location: ASPA 121-Cape Royds, and McMurdo Sound.

Dates: October 2, 2012 to February 28, 2013.

Nadene G. Kennedy,
Permit Officer, Office of Polar Programs.

[FR Doc. 2012-15118 Filed 6-20-12; 8:45 am]

BILLING CODE 7555-01-P